FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011733-005, −006.

Title: Common Ocean Carrier Platform Agreement.

Parties: Alianca Navegacao e Logistica Ltda.; A.P. Moller-Maersk Sealand; CMA CGM, S.A.; CP Ships Limited; Hamburg Sud; Hapag-Lloyd Container Linie GmbH; Mediterranean Shipping Company, S.A.; Nippon Yusen Kaisha; P&O Nedlloyd Limited; Safmarine Container Lines N.V.; United Arab Shipping Company (S.A.G.).

Synopsis: Proposed Amendment No. 005 would permit non-party ocean common carriers to use the Portal authorized by the agreement on a trial basis without becoming a party to the agreement. Amendment No. 006 adds CP Ships Limited, for and on behalf of its ocean common carrier subsidiaries, as a non-shareholder party to the agreement.

Dated: July 19, 2002.
By order of the Federal Maritime Commission.
Theodore A. Zook,
Assistant Secretary,

[FR Doc. 02-18752 Filed 7-24-02; 8:45 am]

BILLING CODE 6730-01-P